DEPARTMENT OF ENERGY

Federal Energy Regulatory Commission

Combined Notice of Filings #1

Take notice that the Commission received the following electric rate filings:

Docket Numbers: ER10-2331-072.

Applicants: J.P. Morgan Ventures Energy Corporation.

Description: Notice of Change in Status of the J.P. Morgan Ventures Energy Corporation.

Filed Date: 1/28/19.

Accession Number: 20190128-5213.

Comments Due: 5 p.m. ET 2/19/19.

Docket Numbers: ER10-2984-043.

Applicants: Merrill Lynch Commodities, Inc.

Description: Notice of Non-Material Change in Status of Merrill Lynch Commodities, Inc.

Filed Date: 1/28/19.

Accession Number: 20190128-5217.

Comments Due: 5 p.m. ET 2/19/19.

Docket Numbers: ER18-1186-002.

Applicants: Turtle Creek Wind Farm LLC.

Description: Notice of Non-Material Change in Status of Turtle Creek Wind Farm LLC.

Filed Date: 1/28/19.

Accession Number: 20190128-5215.

Comments Due: 5 p.m. ET 2/19/19.

Docket Numbers: ER18-1189-002; ER18-1188-003.

Applicants: Meadow Lake Wind Farm VI LLC, Prairie Queen Wind Farm LLC.

Description: Notice of Non-Material Change in Status of Meadow Lake Wind Farm VI LLC, et. al.

Filed Date: 1/28/19.

Accession Number: 20190128-5223.

Comments Due: 5 p.m. ET 2/19/19.

Docket Numbers: ER19-876-000.

Applicants: Commonwealth Edison Company, Commonwealth Edison Company of Indiana, Inc., PJM Interconnection, L.L.C.

Description: § 205(d) Rate Filing: ComEd submits revisions to Att. H-13A re: Update of the Depreciation Rate to be effective 3/29/2019.

Filed Date: 1/28/19.

Accession Number: 20190128-5149.

Comments Due: 5 p.m. ET 2/19/19.

Docket Numbers: ER19-877-000.

Applicants: Commonwealth Edison Company, Commonwealth Edison Company of Indiana, Inc., PJM Interconnection, L.L.C.

Description: § 205(d) Rate Filing: ComEd submits revisions to Letter Agreement, Service Agreement No. 3747 to be effective 3/29/2019.

Filed Date: 1/28/19.

Accession Number: 20190128-5153.

Comments Due: 5 p.m. ET 2/19/19.

Docket Numbers: ER19-878-000.

Applicants: Enel Green Power Hilltopper Wind, LLC.

Description: Baseline eTariff Filing: Reactive Power Compensation Filing to be effective 3/30/2019.

Filed Date: 1/29/19.

Accession Number: 20190129-5036.

Comments Due: 5 p.m. ET 2/19/19.

Docket Numbers: ER19-879-000.

Applicants: Alabama Power Company.

Description: § 205(d) Rate Filing: Blountstown Long-Term Firm PTP Agreement Filing to be effective 1/1/2019.

Filed Date: 1/29/19.

Accession Number: 20190129-5069.

Comments Due: 5 p.m. ET 2/19/19.

Docket Numbers: ER19-880-000.

Applicants: Alabama Power Company.

Description: Tariff Cancellation: Blountstown NITSA Termination Filing to be effective 1/1/2019.

Filed Date: 1/29/19.

Accession Number: 20190129-5070.

Comments Due: 5 p.m. ET 2/19/19.

Docket Numbers: ER19-881-000.

Applicants: Alabama Power Company.

Description: § 205(d) Rate Filing: Calhoun Power Interconnection Agreement Amendment Filing to be effective 1/1/2019.

Filed Date: 1/29/19.

Accession Number: 20190129-5075.

Comments Due: 5 p.m. ET 2/19/19.

Docket Numbers: ER19-882-000.

Applicants: Alabama Power Company.

Description: § 205(d) Rate Filing: CER Generation Interconnection Agreement Amendment Filing to be effective 1/1/2019.

Filed Date: 1/29/19.

Accession Number: 20190129-5079.

Comments Due: 5 p.m. ET 2/19/19.

Docket Numbers: ER19-883-000.

Applicants: PJM Interconnection, L.L.C.

Description: Tariff Cancellation: Notice of Cancellation of WMPA SA No. 4267; Queue No. Z1-091 to be effective 12/15/2018.

Filed Date: 1/29/19.

Accession Number: 20190129-5089.

Comments Due: 5 p.m. ET 2/19/19.

Take notice that the Commission received the following electric securities filings:

Docket Numbers: ES19-13-000.

Applicants: Kingsport Power Company.

Description: Application Under Section 204 of the Federal Power Act for Authorization to Issue Securities of Kingsport Power Company.

Filed Date: 1/28/19.

Accession Number: 20190128-5211.

Comments Due: 5 p.m. ET 2/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2019.
Kimberly D. Bose,
Secretary.

[FR Doc. 2019-00992 Filed 2-4-19; 8:45 am]

BILLING CODE 6717-01-P